DEPARTMENT OF HEALTH AND HUMAN SERVICES

National Institutes of Health

National Cancer Institute; Amended Notice of Meeting

Notice is hereby given of a change in the meeting of the National Cancer Institute Special Emphasis Panel, February 26, 2020, 11:00 a.m. to February 26, 2020, 05:30 p.m., National Cancer Institute Shady Grove, 9609 Medical Center Drive, Rockville, MD 20850 which was published in the Federal Register on December 30, 2019, 84 FR 71964.

This meeting notice is amended to change the meeting end time. The meeting will be now held on February 26, 2020 from 11:00 a.m. to 6:00 p.m. at the National Cancer Institute Shady Grove, Room 7W032, 9609 Medical Center Drive, Rockville, MD 20850. The meeting is closed to the public.

Dated: January 21, 2020.
Melanie J. Pantoja,
Program Analyst, Office of Federal Advisory Committee Policy.

[FR Doc. 2020-01377 Filed 1-27-20; 8:45 am]

BILLING CODE 4140-01-P